INTERNATIONAL TRADE COMMISSION

[Investigation No. TA-204-12]

Steel: ¹ Evaluation of the Effectiveness of Import Relief

¹ Subheadings 9903.72.30 through 9903.74.24 of the Harmonized Tariff Schedule of the United States set forth safeguard measures applicable to covered steel products and specified products and sources excluded from the safeguard measures. In the 2003 HTS, subheadings 9903.72.30 through 9903.72.48 covered carbon and alloy steel slabs; subheadings 9903.72.50 through 9903.73.39 covered carbon and alloy steel flat-rolled products (including plates and other hot-rolled steel, cold-rolled steel other than grain-oriented steel, and clad, coated, and plated steel); subheadings 9903.73.42 through 9903.73.62 covered certain carbon and alloy steel bars, rods, and light shapes; subheadings 9903.73.65 through 9903.73.71 covered carbon steel concrete reinforcing bars (rebars); subheadings 9903.73.74 through 9903.73.86 covered certain carbon and alloy steel non-seamless pipes and tubes; subheadings 9903.73.88 through 9903.73.95 covered certain tube and pipe fittings; subheadings 9903.73.97 through 9903.74.16 covered stainless steel bars, rods, angles, shapes, and sections; and subheadings 9903.74.18 through 9903.74.24 covered stainless steel wire.

AGENCY: United States International Trade Commission.

ACTION: Institution of an investigation and scheduling of hearings.

SUMMARY: Pursuant to section 204(d) of the Trade Act of 1974 (19 U.S.C. 2254(d)) (the Act), the Commission has instituted investigation No. TA-204-12, Steel: Evaluation of the Effectiveness of Import Relief, for the purpose of evaluating the effectiveness of the relief action imposed by the President on imports of certain steel products under section 203 of the Act. The remaining portion of the action terminated on March 21, 2005.

Effective Date: March 21, 2005.

FOR FURTHER INFORMATION CONTACT: Elizabeth Haines (202-205-3200) or Douglas Corkran (202-205-3057), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov).

Background: The President announced the relief action on March 5, 2002. In a proclamation of that date (Proclamation 7529, published in the Federal Register of March 7, 2002, at 67 FR 10553), the President announced that he would impose safeguard measures on imports of certain steel products in the form of a tariff-rate quota and increased import duties effective March 20, 2002, for a period of 3 years and 1 day (to March 21, 2005). In a memorandum of that same date relating to these measures, the President instructed the Secretary of the Treasury and the Secretary of Commerce to establish a system of import licensing to facilitate the monitoring of imports of certain steel products (67 FR 10953). The Department of Commerce published regulations establishing such a system in the Federal Register on December 31, 2002 (67 FR 79845). On December 4, 2003, the President issued a proclamation that terminated the tariff-rate quota and the increased import duties on certain steel products, but directed the Secretary of Commerce to continue the monitoring system until the earlier of March 21, 2005, or such time as the Secretary establishes a replacement program (Proclamation 7741, published in the Federal Register of December 8, 2003, at 68 FR 68483). Proclamation 7741 also authorized the United States Trade Representative, upon his determination that the Secretary of Commerce has established a replacement program, to terminate the action under section 203(a)(3)(I) of the Trade Act and the licensing system, and to publish notice of this determination and action in the Federal Register. On December 9, 2003, the Department of Commerce published a notice stating that the system would continue in effect as described in the Proclamation until March 21, 2005 (68 FR 68594). On March 11, 2005, the Department of Commerce published an interim final rule to implement a replacement program for the period beyond March 21, 2005 (70 FR 12133).

Section 204(d) of the Act requires the Commission, following termination of a relief action, to evaluate the effectiveness of the action in facilitating positive adjustment by the domestic industry to import competition, consistent with the reasons set out by the President in the report submitted to the Congress under section 203(b) of the Act. The Commission is required to submit a report on the evaluation to the President and the Congress no later than 180 days after the day on which the relief action was terminated.

For further information concerning the conduct of this investigation, hearing procedures, and rules of general application, consult the Commission's Rules of Practice and Procedure, part 201, subparts A through E (19 CFR part 201, subparts A through and E), and part 206, subparts A and F (19 CFR part 206, subparts A and F).

SUPPLEMENTARY INFORMATION: Participation in the investigation and service list.—Persons wishing to participate in the investigation as parties must file an entry of appearance with the Secretary to the Commission, as provided in section 201.11 of the Commission's rules, not later than 14 days after publication of this notice in the Federal Register. The Secretary will prepare a service list containing the names and addresses of all persons, or their representatives, who are parties to this investigation upon the expiration of the period for filing entries of appearance.

Public hearing.—The Commission has scheduled hearings in connection with this investigation. The hearings will be held beginning at 9:30 a.m. on July 19, 2005 (carbon and alloy flat products), July 21, 2005 (carbon and alloy long products), July 26, 2005 (carbon and alloy tubular products), and July 28, 2005 (stainless steel products), at the U.S. International Trade Commission Building. Requests to appear at a specific hearing should be filed in writing with the Secretary to the Commission on or before June 20, 2005, so that the Commission may determine the level of interest in the hearings. All persons desiring to appear at a hearing and make oral presentations should attend a prehearing conference to be held at 9:30 a.m. on July 15, 2005, at the U.S. International Trade Commission Building. Oral testimony and written materials to be submitted at the hearing are governed by sections 201.6(b)(2) and 201.13(f) of the Commission's rules.

Written submissions.—Each party is encouraged to submit a prehearing brief to the Commission. The deadline for filing prehearing briefs is July 12, 2005. Parties may also file posthearing briefs. The deadlines for filing posthearing briefs are July 27, 2005 (for material covered at the hearing on July 19, 2005), July 29, 2005 (for material covered at the hearing on July 21, 2005), August 3, 2005 (for material covered at the hearing on July 26, 2005) and August 5, 2005 (for material covered at the hearing on July 28, 2005). In addition, any person who has not entered an appearance as a party to the investigation may submit a written statement concerning the matters to be addressed in the report on or before August 5, 2005. All written submissions must conform with the provisions of section 201.8 of the Commission's rules; any submissions that contain confidential business information must also conform with the requirements of section 201.6 of the Commission's rules. The report that the Commission sends to the President may include confidential business information. The Commission's rules do not authorize filing of submissions with the Secretary by facsimile or electronic means, except to the extent permitted by section 201.8 of the Commission's rules, as amended, 67 FR 68036 (November 8, 2002).

In accordance with section 201.16(c) of the Commission's rules, each document filed by a party to the investigation must be served on all other parties to the investigation (as identified by the service list), and a certificate of service must be timely filed. The Secretary will not accept a document for filing without a certificate of service.

Authority: This investigation is being conducted under the authority of section 204(d) of the Trade Act of 1974; this notice is published pursuant to section 206.3 of the Commission's rules.

By order of the Commission.
Issued: March 30, 2005.
Marilyn R. Abbott,
Secretary to the Commission.

[FR Doc. E5-1483 Filed 4-1-05; 8:45 am]

BILLING CODE 7020-02-P